FEDERAL COMMUNICATIONS COMMISSION

Federal Communications Commission Seeks Nominations by May 11, 2009 for Membership on the Communications Security, Reliability, and Interoperability Council

AGENCY: Federal Communications Commission.

ACTION: Notice.

SUMMARY: The Federal Communications Commission is seeking nominations and expressions of interest for membership on the Communications Security, Reliability, and Interoperability Council. The Council is a Federal Advisory Committee that provides guidance and expertise on the nation's communication infrastructure and public safety communications.

DATES: Nominations and expressions of interest for membership must be submitted to the Federal Communications Commission no later than May 11, 2009.

ADDRESSES: Nominations should be sent to Lisa M. Fowlkes, Deputy Bureau Chief, Public Safety & Homeland Security Bureau, Federal Communications Commission, via e-mail at lisa.fowlkes@fcc.gov; via facsimile at 202-418-2817; or via U.S. mail at 445 12th Street, SW., Room 7-C753, Washington, DC 20554. Due to the extensive security screening of incoming mail, delivery of mail sent to the Commission may be delayed and we encourage submission by e-mail or facsimile.

FOR FURTHER INFORMATION CONTACT: Lisa M. Fowlkes, Deputy Chief, Public Safety & Homeland Security Bureau, (202) 418-7452 (voice) or lisa.fowlkes@fcc.gov (e-mail) or Jeffery Goldthorp, Chief, Communications Systems Analysis Division, Public Safety & Homeland Security Bureau, (202) 418-1096 (voice) or Jeffery.goldthorp@fcc.gov (e-mail).

SUPPLEMENTARY INFORMATION: The Federal Communications Commission (FCC or Commission) is seeking nominations and expressions of interest for membership on the Communications Security, Reliability, and Interoperability Council (CSRIC or Council). The Council is a Federal Advisory Committee that provides guidance and expertise on the nation's communications infrastructure and public safety communications. Nominations and expressions of interest for membership must be submitted to the FCC no later than May 11, 2009. Procedures for submitting nominations and expressions of interest are set forth below. On March 19, 2009, the FCC, pursuant to the Federal Advisory Committee Act (5 U.S.C. Appendix 2), renewed the charter for the CSRIC for a period of two years through March 18, 2011. See 74 FR 11721-11722. More specifically, the purpose of the CSRIC is to provide recommendations to the Commission to ensure optimal security, reliability, operability and interoperability of communications systems, including public safety, telecommunications, and media communications systems.

CSRIC's Mission

Under its charter, CSRIC's duties may include:

• Recommending best practices and actions the Commission can take to ensure the security, reliability, operability, and interoperability of public safety communications systems;

• Recommending best practices and actions the Commission can take to improve the reliability and resiliency of communications infrastructure;

• Evaluating ways to strengthen the collaboration between communications service providers and public safety entities during emergencies and make recommendations for how they can be improved;

• Developing and recommending best practices and actions the FCC can take that promote reliable 911 and enhanced 911 (E911) service;

• Analyzing and recommending technical options to enable accurate and reliable dynamic E911 location identification for interconnected Voice over Internet Protocol (VoIP) services;

• Recommending ways, including best practices, to improve Emergency Alert System (EAS) operations and testing and to ensure that all Americans, including those living in rural areas, the elderly, people with disabilities, and people who do not speak English, have access to timely EAS alerts and other emergency information;

• Recommending methods to measure reliably and accurately the extent to which key best practices are implemented both now and in the future; and

• Making recommendations with respect to such additional topics as the FCC may specify.

Membership

The Commission seeks nominations and expressions of interest for membership on the Council. Members of the Council will be appointed from among public safety agencies, consumer or community organizations or other non-profit entities, and the private sector to balance the expertise and viewpoints that are necessary to effectively address the issues to be considered. The Commission is particularly interested in receiving nominations and expressions of interest from individuals and organizations in the following categories:

• Public safety agencies and/or organizations as well as other state, tribal and/or local government agencies and/or organizations with expertise in communications issues;

• Federal government agencies with expertise in communications and/or homeland security issues;

• Communications service providers, including wireline and wireless communications service providers, broadcast radio and television licensees, cable television operators and other multichannel video programming distributors, satellite communications service providers, interconnected Voice over Internet Protocol and other IP-enabled service providers;

• Consumer or community organizations, such as those representing people with disabilities, the elderly and those living in rural areas; and

• Qualified representatives of other stakeholders and interested parties with relevant expertise.

Members of the CSRIC will be appointed either as Representatives or as Special Government Employees (SGEs), as necessary.

Nominations/Expressions of Interest Procedures and Deadline

Nominations should be received by the Commission as soon as possible, but no later than May 11, 2009. Nominations received after this date may not be considered. Organizations should nominate their Chief Executive Officer or other senior-level official in the organization. No specific nomination form is required. However, each nomination must include the following information:

• Name, title and organization of the nominee and a description of the sector or interest the nominee will represent;

• Nominee's mailing address, e-mail address, telephone number, and facsimile number; and

• A statement summarizing the nominee's qualifications and reasons why the nominee should be appointed to the CSRIC.

Please note this Notice is not intended to be the exclusive method by which the Commission will solicit nominations and expressions of interest to identify qualified candidates. However, all candidates for membership on the Council will be subject to the same evaluation criteria.

Federal Communications Commission.
Marlene H. Dortch,
Secretary.

[FR Doc. E9-8752 Filed 4-15-09; 8:45 am]

BILLING CODE 6712-01-P